DEPARTMENT OF DEFENSE

Office of the Secretary

Defense Innovation Board, Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Innovation Board (DIB) will take place.

DATES: Closed DIB sessions, Tuesday, January 31, 2023 from 3:00 p.m. to 5:00 p.m.; Wednesday, February 1, 2023 from 8:30 a.m. to 10:30 a.m. and 12:30 p.m. to 5:00 p.m. Open DIB session, Wednesday, February 1, 2023 from 10:45 a.m. to 12:00 p.m.

ADDRESSES: The closed portions of the DIB meeting on January 31, 2023 and on February 1, 2023, will take place in 3E188 at the Pentagon in Washington, DC. The open portion of the DIB meeting on February 1, 2023, will take place in 3C146 and be accessible to the public virtually.

FOR FURTHER INFORMATION CONTACT: Ms. Colleen Laughlin, the Designated Federal Officer (DFO) at (571) 372-7344 (voice) or osd.innovation@mail.mil. Mailing address is Defense Innovation Board, 4800 Mark Center Drive, Suite 16F09-02, Alexandria, VA 22350-3600. Website: https://innovation.defense.gov. The most up-to-date changes to the meeting agenda and link to the virtual meeting can be found on the website.

SUPPLEMENTARY INFORMATION: This meeting is being held under the provisions of the Federal Advisory Committee Act (FACA) (title 5 United States Code [U.S.C.] chapter 10), the Government in the Sunshine Act (5 U.S.C. 552b), and 41 Code of Federal Regulations (CFR) 102-3.140 and 102-3.150.

Due to circumstances beyond the control of the Designated Federal Officer, the Defense Innovation Board was unable to provide public notification required by 41 CFR 102-3.150(a) concerning its January 31 through February 1, 2023 meeting. Accordingly, the Advisory Committee Management Officer for the Department of Defense, pursuant to 41 CFR 102-3.150(b), waives the 15-calendar day notification requirement.

Purpose of Meeting: The mission of the DIB is to provide the Secretary of Defense, Deputy Secretary of Defense, and Under Secretary of Defense for Research & Engineering (USD(R&E)) independent advice and strategic insights on the emerging and disruptive technologies and their impact on national security, adoption of commercial sector innovation best practices, and how to leverage the U.S. innovation ecosystem and align structures, processes, and human capital practices to accelerate and scale innovation adoption, foster a culture of innovation and an experimentation mindset, and enable the Department to build enduring advantages. The DIB focuses on innovation-related issues and topics raised by the Secretary of Defense, the Deputy Secretary of Defense, or the USD(R&E). The objective of this DIB meeting is to obtain, review, and evaluate information related to the DIB's mission and studies.

Agenda: The DIB meeting will begin with a closed session on January 31, 2023 from 3:00 p.m. to 5:00 p.m. The DIB will reconvene on February 1, 2023, for closed sessions from 8:30 a.m. to 10:30 a.m. The DIB will convene for its open session, from 10:45 a.m. to 12:00 p.m. Following adjournment of the open session, the DIB will reconvene for closed sessions from 12:30 p.m. to 5:00 p.m. Eastern Time. During the closed sessions, the DIB members will participate in classified briefs and discussions on matters related to: S&T Threat Overview—the threats to national security posed by adversaries as it relates to science and technology (S&T); the Global Investment Capital Environment; The Innovation Ecosystem & Pain Points—strategic implications of DoD's innovation ecosystem, the valley of death, and innovation pain points; USAF Designing the Capabilities and Force of the Future—U.S. Air Force future force design and capabilities; Opportunities & Challenges Engaging the Commercial Sector—opportunities and challenges engaging the commercial sector and non-traditional companies; Experimentation to Acquisition—Lessons Learned from Prototypes to Programs—Service innovation initiatives related to acquisition and deployment of capabilities and workforce required to address future threats; National Military Command Center. During the open session, following the DIB DFO's and the Chair's remarks, members will receive an update on the National Defense Science & Technology Strategy Review Task Force and the Strategic Investment Capital Task Force, and receive briefs from the Office of Strategic Capital and U.S. Air Force. Following these briefs and DIB discussions, the DFO will read public comments, offer the DIB closing remarks, and adjourn the open session. The latest version of the agenda can be found on the DIB's website at: https://innovation.defense.gov.

Meeting Accessibility: In accordance with section 1009(d) of the FACA and 41 CFR 102-3.155, the DoD has determined that parts of the DIB meeting will be closed to the public on January 31, 2023 from 3:00 p.m. to 5:00 p.m. and on February 1, 2023 from 8:30 a.m. to 10:30 a.m. and 12:30 p.m. to 5:00 p.m. Specifically, the USD(R&E), in consultation with the DoD Office of General Counsel, has determined in writing that these portions of the meeting will be closed to the public because the DIB will consider matters covered by 5 U.S.C. 552b(c)(1). The determination is based on the classified nature of discussions related to national security. Such classified material is so intertwined with the unclassified material that it cannot reasonably be segregated into separate discussions without defeating the effectiveness and meaning of the overall meeting. To permit these portions of the meeting to be open to the public would preclude discussion of such matters and would greatly diminish the ultimate utility of the DIB's recommendations to the Secretary of Defense, Deputy Secretary of Defense, and USD(R&E).

Pursuant to Federal statutes and regulations (the FACA and 41 CFR 102-3.140 through 102-3.165), the meeting will be accessible to the public virtually on February 1, 2023 from 10:45 a.m. to 12:00 p.m. Members of the public wishing to attend the meeting virtually should register on the DIB's website listed in this notice no later than January 30, 2023. Members of the media should RSVP to the Office of the Assistant to the Secretary of Defense (Public Affairs), at osd.pentagon.pa.list.dpo-atl@mail.mil.

Written Statements: Pursuant to 41 CFR 102-3.105(j) and 102-3.140 and section 1009(a)(3) of the FACA, the public or interested organizations may submit written comments or statements to the DIB in response to the stated agenda of the meeting or in regard to its mission. Written comments or statements should be submitted to Ms. Colleen Laughlin, the DFO, via email to osd.innovation@mail.mil. Comments or statements must include the author's name, title or affiliation, address, and daytime phone number. The DFO must receive written comments or statements being submitted in response to the agenda set forth in this notice by 5:00 p.m. on Friday, January 27, 2023 to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website

Dated: January 24, 2023.
Aaron T. Siegel,
Alternate OSD Federal Register Liaison Officer, Department of Defense.

[FR Doc. 2023-01676 Filed 1-26-23; 8:45 am]

BILLING CODE 5001-06-P